ENVIRONMENTAL PROTECTION AGENCY

[FRL OP-OFA-186]

Environmental Impact Statements; Notice of Availability

Responsible Agency: Office of Federal Activities, General Information 202-564-5632 or https://www.epa.gov/nepa.

Weekly receipt of Environmental Impact Statements (EIS)

Filed June 27, 2025 10 a.m. EST Through July 7, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250094, Final, USFWS, CA, General Conservation Plan for the Desert Tortoise in California, Review Period Ends: 08/11/2025, Contact: Peter Sanzenbacher 442-222-0165.

Dated: July 9, 2025.
Nancy Abrams,
Associate Director, Office of Federal Activities.

[FR Doc. 2025-12989 Filed 7-10-25; 8:45 am]

BILLING CODE 6560-50-P